DEPARTMENT OF DEFENSE

Office of the Secretary

[Docket ID: DoD-2024-OS-0007]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by November 18, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Climate Literacy Pulse Check; OMB Control Number 0704-CLPC.

Type of Request: New.

Number of Respondents: 12,000.

Responses per Respondent: 1.

Annual Responses: 12,000.

Average Burden per Response: 10 minutes.

Annual Burden Hours: 2,000.

Needs and Uses: Climate change is one of many threat multipliers to national security, which adds complexity to Department of Defense (DoD) decisions. It is a priority of the DoD to ensure that support to the department's missions takes climate considerations into account, especially how the adverse impacts of a changing climate can complicate and impede DoD missions. This pulse check is intended for DoD personnel who provide various aspects of support to the warfighter—whether in OSD, Defense Agencies, the Joint Staff, combatant commands, and the Services—to understand how climate change affects their work and what education, training, and resources they require to continue executing their mission in the context of a changing climate.

Affected Public: Federal government.

Frequency: Annually.

Respondent's Obligation: Voluntary.

OMB Desk Officer: Ms. Jasmeet Seehra.

DoD Clearance Officer: Mr. Reginald Lucas.

Dated: October 15, 2024.
Aaron T. Siegel,
Alternate OSD Federal Register Liaison Officer, Department of Defense.

[FR Doc. 2024-24141 Filed 10-17-24; 8:45 am]

BILLING CODE 6001-FR-P